DEPARTMENT OF HOMELAND SECURITY

Coast Guard

33 CFR Part 110

[CGD11-04-005]

RIN 1625-AA01

Special Anchorage Regulations; Long Beach, CA

AGENCY: Coast Guard, DHS.

ACTION: Final rule.

SUMMARY: The Coast Guard is establishing three special anchorage areas in Long Beach, California where vessels less than 20 meters (approximately 65 feet) in length, and barges, canal boats, scows, or other nondescript craft, would not be required to sound signals required by Rule 35 of the Inland Navigation Rules. The effect of these special anchorages is to reduce the risk of vessel collisions within the harbors of Los Angeles and Long Beach by grouping unmanned barges, which typically do not sound signals in reduced visibility, within specified areas and indicating these designated areas on charts. Vessels moored in these areas will not have to sound signals in restricted visibility.

DATES: Effective Date: April 26, 2006.

ADDRESSES: Comments and material received from the public, as well as documents indicated in this preamble as being available in the docket, are part of docket CGD11-04-005 and are available for inspection or copying at Sector Los Angeles-Long Beach, 1001 South Seaside Avenue, Building 20, San Pedro, California 90731, between 8 a.m. and 4 p.m., Monday through Friday, except Federal holidays.

FOR FURTHER INFORMATION CONTACT: Lieutenant Peter Gooding, USCG, Chief of Waterways Management Division, at (310) 732-2020.

SUPPLEMENTARY INFORMATION:

Regulatory Information

On November 5, 2004, we published a notice of proposed rulemaking (NPRM) entitled Special Anchorage Regulations; Long Beach, CA in the Federal Register (69 FR 64546). We received no letters commenting on the proposed rule. No public meeting was requested, and none was held.

Background and Purpose

The Coast Guard is establishing three new special anchorage areas in Long Beach outer harbor. A “special anchorage” is an area on the water where vessels less than 20 meters (approximately 65 feet) in length, and barges, canal boats, scows, or other nondescript craft, are not required to sound signals required by rule 35 of the Inland Navigation Rules, codified at 33 U.S.C. 2035. The regulations will reconfigure existing anchorages to reflect current use of the anchorage grounds. Currently, the primary users of these anchorages are unmanned barges, with the majority of them being long-term users. By establishing these areas as special anchorages, these barges will not be required to sound signals in restricted visibility as prescribed in Rule 35 of the Inland Navigation Rules. The anchorages are depicted on the local charts, are well removed from fairways and are located where general navigation will not endanger or be endangered by unmanned barges not sounding signals in restricted visibility.

Discussion of Comments and Changes

The Coast Guard received no comments on this rule and has not changed the regulations from the published NPRM.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. This rule will impose no cost on vessel operators, and have minimal impact to vessel traffic.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities.

This rule will possibly affect the following entities, some of which may be small entities: the owners and operators of private and commercial vessels intending to transit or anchor in the affected area. The impact to these entities will not, however, be significant since this zone will encompass only a small portion of the waterway and vessels can safely navigate around the anchored vessels.

Assistance for Small Entities

Under section 213(a) of the Small Business Regulatory Enforcement Fairness Act of 1996 (Pub. L. 104-121), we offered to assist small entities in understanding the rule so that they can better evaluate its effects on them and participate in the rulemaking process. However, we received no requests for assistance from any small entities.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(f), of the Instruction, from further environmental documentation because we are proposing to create a special anchorage area.

A final “Environmental Analysis Check List” and a final “Categorical Exclusion Determination” are available in the docket where indicated under ADDRESSES.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 471, 1221 through 1236, 2030, 2035, and 2071; 33 CFR 1.05-1(g). Department of Homeland Security Delegation No. 0170.1.

2. In § 110.100, add paragraphs (c), (d), (e), and (f) to read as follows:

§ 110.100 Los Angeles and Long Beach Harbors, CA

* * * * *

(c) Area B-1. Long Beach outer harbor along east side of Pier 400 beginning at latitude 33°44′22.8″ N., longitude 118°13′51.0″ W.; thence south to latitude 33°43′54.5″ N., longitude 118°13′50.0″ W.; thence southwesterly to latitude 33°43′46.0″ N., longitude 118°14′13.6″ W.; thence northwesterly to latitude 33°44′15.3″ N., longitude 118°14′26.6″ W.; thence northeasterly to latitude 33°44′25.1″ N., longitude 118°14′15.6″ W.; thence easterly to the beginning point.

(d) Area C-1. Long Beach outer harbor between Island Freeman and Island Chaffee beginning at latitude 33°44′20.0″ N., longitude 118°08′26.2″ W.; thence west to latitude 33°44′23.5″ N., longitude 118°09′32.6″ W.; thence north to latitude 33°44′52.8″ N., longitude 118°09′33.2″ W.; thence southeast to latitude 33°44′25.5″ N., longitude 118°08′26.2″ W.; thence south to the beginning point.

(e) Area E-1. Long Beach outer harbor northwest of Island Freeman beginning at latitude 33°44′55.0″ N., longitude 118°09′40.0″ W.; thence southwesterly to latitude 33°44′37.0″ N., longitude 118°09′48.5″ W.; thence northwesterly to latitude 33°44′52.0″ N., longitude 118°10′32.0″ W.; thence north to latitude 33°45′11.0″ N., longitude 118°10′32.0″ W.

(f) Restrictions. Special anchorage areas B-1, C-1, and E-1 are reserved for barges on mooring balls, unless otherwise authorized by the Captain of the Port Los Angeles-Long Beach.

3. In § 110.214, revise paragraphs (b)(2) and (5) to read as follows:

§ 110.214 Los Angeles and Long Beach Harbors, CA

* * * * *

(b) * * *

(2) Commercial Anchorage B (Long Beach Harbor). An area enclosed by a line joining the following coordinates:

| Latitude | Longitude
Beginning point | 33 deg.-44′-37.0″ N | 118 deg.-13′-00.0″ W.
Thence south/southeast to | 33 deg.-44′-12.0″ N | 118 deg.-12′-36.2″ W.
Thence southeast to | 33 deg.-43′-38.2″ N | 118 deg.-11′-36.9″ W.
Thence southwest to | 33 deg.-43′-26.1″ N | 118 deg.-11′-47.2″ W.
Thence west to | 33 deg.-43′-26.1″ N | 118 deg.-12′-22.7″ W.
Thence west/southwest to | 33 deg.-42′-58.9″ N | 118 deg.-13′-53.0″ W.
Thence north/northwest to | 33 deg.-43′-46.0″ N | 118 deg.-14′-13.6″ W.
Thence east/northeast to | 33 deg.-43′-54.5″ N | 118 deg.-13′-50.0″ W.
Thence north to | 33 deg.-44′-22.8″ N | 118 deg.-13′-51.0″ W.
Thence east/northeast to the beginning point

* * * * *

(5) Commercial Anchorage E (Long Beach Harbor). An area enclosed by a line joining the following coordinates:

| Latitude | Longitude
Beginning point | 33 deg.-44′-37.0″ N | 118 deg.-09′-48.5″ W.
Thence southwest to | 33 deg.-44′-18.5″ N | 118 deg.-09′-56.8″ W.
Thence west to | 33 deg.-44′-18.5″ N | 118 deg.-10′-27.2″ W.
Thence northwest to | 33 deg.-44′-27.6″ N | 118 deg.-10′-41.0″ W.
Thence west/northwest to | 33 deg.-44′-29.0″ N | 118 deg.-10′-57.4″ W.
Thence north/northwest to | 33 deg.-45′-06.4″ N | 118 deg.-11′-09.5″ W.
Thence northeast to | 33 deg.-45′-15.2″ N | 118 deg.-10′-46.1″ W.
Thence southeast to | 33 deg.-45′-11.0″ N | 118 deg.-10′-32.0″ W.
Thence south to | 33 deg.-44′-52.0″ N | 118 deg.-10′-32.0″ W.
Thence southeast to the beginning point

* * * * *

Dated: March 16, 2006.
Kevin J. Eldridge,
Rear Admiral, U.S. Coast Guard, Commander, Eleventh Coast Guard District.

[FR Doc. 06-2876 Filed 3-24-06; 8:45 am]

BILLING CODE 4910-15-P